DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the unified agenda of rules scheduled for review or development between fall 2016 and fall 2017. The Regulatory Flexibility Act and Executive Order 12866 require publication of the agenda.

ADDRESSES: Unless otherwise indicated, all agency contacts are located at the Department of the Interior, 1849 C Street NW., Washington, DC 20240.

FOR FURTHER INFORMATION CONTACT: You should direct all comments and inquiries to the about these rules to the appropriate agency contact. You should direct general comments relating to the agenda to the Office of Executive Secretariat and Regulatory Affairs, Department of the Interior, at the address above or at 202-208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

Mark Lawyer,
Federal Register Liaison Officer.

Bureau of Safety and Environmental Enforcement—Proposed Rule Stage
Sequence No. | Title | Regulation Identifier No.
331 | Cost Recovery Adjustment | 1014-AA31

Bureau of Safety and Environmental Enforcement—Completed Action
Sequence No. | Title | Regulation Identifier No.
332 | Production Safety Systems and Lifecycle Analysis | 1014-AA10

Assistant Secretary for Land and Minerals Management—Completed Actions
Sequence No. | Title | Regulation Identifier No.
333 | Arctic Regulations | 1082-AA00

United States Fish and Wildlife Service—Proposed Rule Stage
Sequence No. | Title | Regulation Identifier No.
334 | Migratory Bird Permits; Incidental Take of Migratory Birds | 1018-BA69
335 | Migratory Bird Hunting; 2018-2019 Migratory Game Bird Hunting Regulations | 1018-BB73

United States Fish and Wildlife Service—Final Rule Stage
Sequence No. | Title | Regulation Identifier No.
336 | National Wildlife Refuge System; Management of Non-Federal Oil and Gas Rights | 1018-AX36

National Park Service—Final Rule Stage
Sequence No. | Title | Regulation Identifier No.
337 | Non-Federal Oil and Gas Rights | 1024-AD78

Office of Surface Mining Reclamation and Enforcement—Final Rule Stage
Sequence No. | Title | Regulation Identifier No.
338 | Stream Protection Rule | 1029-AC63

Bureau of Land Management—Final Rule Stage
Sequence No. | Title | Regulation Identifier No.
339 | Waste Prevention, Production Subject to Royalties, and Resource Conservation | 1004-AE14
340 | Onshore Oil and Gas Order 4: Oil Measurement | 1004-AE16

DEPARTMENT OF THE INTERIOR (DOI)

Bureau of Safety and Environmental Enforcement (BSEE)

Proposed Rule Stage

331. Cost Recovery Adjustment

Legal Authority: 31 U.S.C. 9701

Abstract: This rule would update 31 cost recovery fees to allow the Bureau of Safety and Environmental Enforcement to recover the full costs of the services it provides to the oil and gas industry. It complies with the Independent Office Appropriations Act of 1952 which established that government services should be self-sustaining to the extent possible. Rulemaking is the only method available to update these fees and comply with the intent of Congress to recover government costs when a special benefit is bestowed on an identifiable recipient. The practice of cost recovery is well-established and this rulemaking is not expected to be controversial.

Timetable:

Action | Date | FR Cite
NPRM | 11/00/16 |
Final Action | 04/00/17 |

Regulatory Flexibility Analysis Required: Yes.

Agency Contact: Kimberly Monaco, Department of the Interior, Bureau of Safety and Environmental Enforcement, 1849 C Street NW., Washington, DC 20240, Phone: 703 787-1658.

RIN: 1014-AA31

DEPARTMENT OF THE INTERIOR (DOI)

Bureau of Safety and Environmental Enforcement (BSEE)

Completed Actions

332. Production Safety Systems and Lifecycle Analysis

Legal Authority: 31 U.S.C. 9701; 43 U.S.C. 1334

Abstract: The Bureau of Safety and Environmental Enforcement (BSEE) will amend and update the regulations regarding offshore oil and natural gas production. It will address issues such as production safety systems, subsurface safety devices, and safety device testing. BSEE has expanded the rule to differentiate the requirements for operating dry tree and wet tree production systems on the Outer Continental Shelf (OCS). This rule will also expand use of life cycle analysis of critical equipment.

Completed:

Reason | Date | FR Cite
Final Action | 09/07/16 | 81 FR 61834
Final Action Effective | 11/07/16 |

Regulatory Flexibility Analysis Required: Yes.

Agency Contact: Lakeisha Harrison, Phone: 703 787-1552, Fax: 703 787-1555, Email: lakeisha.harrison@bsee.gov.

RIN: 1014-AA10

DEPARTMENT OF THE INTERIOR (DOI)

Assistant Secretary for Land and Minerals Management (ASLM)

Completed Actions

333. Arctic Regulations

Legal Authority: 34 U.S.C. 1331 et seq.

Abstract: The Department of the Interior, through the Bureau of Ocean Energy Management and Bureau of Safety and Environmental Enforcement, is developing joint proposed rules to promote safe, responsible, and effective drilling activities on the Arctic Continental Shelf, while also ensuring the protection of Alaska's coastal communities and the marine environment.

Completed:

Reason | Date | FR Cite
Final Action | 07/15/16 | 81 FR 46478
Final Action Effective | 09/13/16 |

Regulatory Flexibility Analysis Required: Yes.

Agency Contact: Michael Farber, Phone: 202 208-3976, Email: michael.farber@bsee.com.

RIN: 1082-AA00

DEPARTMENT OF THE INTERIOR (DOI)

United States Fish and Wildlife Service (FWS)

Proposed Rule Stage

334. Migratory Bird Permits; Incidental Take of Migratory Birds

Legal Authority: 16 U.S.C. 703 to 712; 42 U.S.C. 4321 et seq.

Abstract: We are preparing a programmatic environmental impact statement (PEIS) pursuant to the National Environmental Policy Act of 1969 (NEPA) to evaluate the potential environmental impacts of a proposal to authorize incidental take of migratory birds under the Migratory Bird Treaty Act (16 U.S.C. 703 to 711). In drafting the PEIS, we invited input from other Federal and State agencies, tribes, nongovernmental organizations, and members of the public on the scope of the proposed NEPA analysis, the pertinent issues we should address, and alternatives to our proposed approach for authorizing incidental take. Based on this PEIS, we propose to establish regulations to govern the incidental take of migratory birds from activities under which migratory birds are killed incidental to otherwise lawful activities. These proposed regulations will establish rules for individual permits and programmatic agreements with Federal agencies and will establish the basis for future rulemaking for general authorizations for incidental take of migratory birds.

Timetable:

Action | Date | FR Cite
Notice | 05/26/15 | 80 FR 30032
Comment Period End | 07/27/15 |
NPRM | 12/00/16 |

Regulatory Flexibility Analysis Required: Yes.

Agency Contact: Stephen Earsom, Biologist--Pilot, Regions 4 & 5 Aviation Manager, Department of the Interior, United States Fish and Wildlife Service, 11510 American Holly Drive, Laurel, MD 20708, Phone: 301 980-8711, Email: stephen_earsom@fws.gov.

RIN: 1018-BA69

335. • Migratory Bird Hunting; 2018-2019 Migratory Game Bird Hunting Regulations

Legal Authority: 16 U.S.C. 703 to 711; 16 U.S.C. 742a-j

Abstract: We propose to establish annual hunting regulations for certain migratory game birds for the 2018-2019 hunting season. We annually prescribe outside limits (frameworks), within which States may select hunting seasons. This proposed rule provides the regulatory schedule, describes the proposed regulatory alternatives for the 2018-2019 duck hunting seasons, requests proposals from Indian tribes that wish to establish special migratory game bird hunting regulations on Federal Indian reservations and ceded lands, and requests proposals for the 2018 spring and summer migratory bird subsistence season in Alaska. Migratory game bird hunting seasons provide opportunities for recreation and sustenance; aid Federal, State, and tribal governments in the management of migratory game birds; and permit harvests at levels compatible with migratory game bird population status and habitat conditions.

Timetable:

Action | Date | FR Cite
NPRM | 05/00/17 |
Final Action | 03/00/18 |

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Email: ronald_kokel@fws.gov.

RIN: 1018-BB73

DEPARTMENT OF THE INTERIOR (DOI)

United States Fish and Wildlife Service (FWS)

Final Rule Stage

336. National Wildlife Refuge System; Management of Non-Federal Oil and Gas Rights

Legal Authority: 16 U.S.C. 668dd to ee; 42 U.S.C. 7401 et seq.; 16 U.S.C. 1131 to 1136; 40 CFR 51.300 to 51.309

Abstract: We anticipate publishing regulations that ensure that all operators conducting oil or gas operations within a National Wildlife Refuge System unit do so in a manner that prevents or minimizes damage to National Wildlife Refuge System resources, visitor values, and management objectives. These regulations will not result in a taking of a property interest, but rather to impose reasonable controls on operations that affect federally owned or controlled lands, and/or waters.

Timetable:

Action | Date | FR Cite
ANPRM | 02/24/14 | 79 FR 10080
ANPRM Comment Period End | 04/25/14 |
ANPRM Comment Period Reopened | 06/09/14 | 79 FR 32903
ANPRM Comment Period Reopening End | 07/09/14 |
NPRM | 12/11/15 | 80 FR 77200
NPRM Comment Period End | 02/09/16 |
NPRM; Final Environmental Impact Statement | 08/22/16 | 81 FR 56575
Final Action | 12/00/16 |

Regulatory Flexibility Analysis Required: Yes.

Agency Contact: Jillian Cohen, Conservation Policy Analyst, Department of the Interior, United States Fish and Wildlife Service, 5275 Leesburg Pike, MS: NWRS, Falls Church, VA 22041, Phone: 703 358-1764, Email: jillian_cohen@fws.gov.

RIN: 1018-AX36

DEPARTMENT OF THE INTERIOR (DOI)

National Park Service (NPS)

Final Rule Stage

337. Non-Federal Oil and Gas Rights

Legal Authority: 54 U.S.C. 100101; 54 U.S.C. 100301; 54 U.S.C. 100302; 54 U.S.C. 100731; 54 U.S.C. 100732

Abstract: This rule would update National Park Service (NPS) regulations governing the exercise of non-Federal oil and gas rights within NPS unit boundaries outside of Alaska. It would accommodate new technology and industry practices, eliminate regulatory exemptions, update requirements, remove caps on bond amounts, and allow NPS to recover administrative costs. The changes make the regulations more effective and efficient and maintain the highest level of protection compatible with park resources and values.

Timetable:

Action | Date | FR Cite
ANPRM | 11/25/09 | 74 FR 61596
ANPRM Comment Period End | 01/25/10 |
NPRM | 10/26/15 | 80 FR 65571
NPRM Comment Period End | 12/28/15 |
Final Action | 12/00/16 |

Regulatory Flexibility Analysis Required: Yes.

Agency Contact: Edward O. Kassman Jr., Geologic Resources Division, Department of the Interior, National Park Service, P.O. Box 25287, Denver, CO 80225, Phone: 303 969-2146, Email: edward_kassman@nps.gov.

RIN: 1024-AD78

DEPARTMENT OF THE INTERIOR (DOI)

Office of Surface Mining Reclamation and Enforcement (OSMRE)

Final Rule Stage

338. Stream Protection Rule

Legal Authority: 30 U.S.C. 1201 et seq.

Abstract: This rule revises our regulations to improve the balance between environmental protection and the Nation's need for coal as a source of energy. This final rule will better protect streams, fish, wildlife, and related environmental values from the adverse impacts of surface coal mining operations and provide mine operators with a regulatory framework to avoid water pollution and the long-term costs associated with water treatment.

Timetable:

Action | Date | FR Cite
ANPRM | 11/30/09 | 74 FR 62664
ANPRM Comment Period End | 12/30/09 |
NPRM | 07/27/15 | 80 FR 44436
NPRM Comment Period Extended | 09/10/15 | 80 FR 54590
NPRM Comment Period End | 09/25/15 |
NPRM Comment Period Extended End | 10/26/15 |
Final Action | 11/00/16 |

Regulatory Flexibility Analysis Required: Yes.

Agency Contact: Dennis Rice, Regulatory Analyst, Department of the Interior, Office of Surface Mining Reclamation and Enforcement, 1951 Constitution Avenue NW., Washington, DC 20240, Phone: 202 208-2829, Email: drice@osmre.gov.

RIN: 1029-AC63

DEPARTMENT OF THE INTERIOR (DOI)

Bureau of Land Management (BLM)

Final Rule Stage

339. Waste Prevention, Production Subject to Royalties, and Resource Conservation

Legal Authority: 25 U.S.C. 396d; 25 U.S.C. 2107; 30 U.S.C. 189; 30 U.S.C. 306; 30 U.S.C. 359; 30 U.S.C. 1751; 43 U.S.C. 1732(b); 43 U.S.C. 1733; 43 U.S.C. 1740

Abstract: The rule would update decades-old standards to reduce wasteful venting, flaring, and leaks of natural gas from onshore wells located on Federal and Indian oil and gas leases. The proposed standards would establish requirements and incentives to reduce waste of gas and clarify when royalties apply to lost gas. This action will enhance our energy security and economy by boosting America's natural gas supplies, ensuring that taxpayers receive the royalties due to them from development of public resources, and reducing emissions.

Timetable:

Action | Date | FR Cite
NPRM | 02/08/16 | 81 FR 6616
NPRM Comment Period Extended | 04/04/16 | 81 FR 19110
NPRM Comment Period End | 04/08/16 |
NPRM Comment Period Extended End | 04/22/16 |
Final Action | 11/00/16 |

Regulatory Flexibility Analysis Required: Yes.

Agency Contact: Steven Wells, Division Chief, Fluid Minerals Division, Department of the Interior, Bureau of Land Management, Room 2134 LM, 20 M Street SE., Washington, DC 20003, Phone: 202 912-7143, Fax: 202 912-7194, Email: s1wells@blm.gov.

RIN: 1004-AE14

340. Onshore Oil and Gas Order 4: Oil Measurement

Legal Authority: 25 U.S.C. 396(d); 25 U.S.C. 2107; 30 U.S.C. 189; 30 U.S.C. 306; 30 U.S.C. 359; 30 U.S.C. 1751; 43 U.S.C. 1732(b); 43 U.S.C. 1733; 43 U.S.C. 1740

Abstract: Onshore Order 4 establishes minimum standards to ensure liquid hydrocarbons are accurately measured and reported. This Order was last updated in 1989, and since then changes in technology have allowed for more accurate fluid measurement. This order will incorporate current industry standards and allow for the use of new technology.

Timetable:

Action | Date | FR Cite
NPRM | 09/30/15 | 80 FR 58952
NPRM Comment Period Extended | 11/23/15 | 80 FR 72943
NPRM Comment Period End | 11/30/15 |
NPRM Comment Period Extended End | 12/14/15 |
Final Action | 11/00/16 |

Regulatory Flexibility Analysis Required: Yes.

Agency Contact: Steven Wells, Division Chief, Fluid Minerals Division, Department of the Interior, Bureau of Land Management, Room 2134 LM, 20 M Street SE., Washington, DC 20003, Phone: 202 912-7143, Fax: 202 912-7194, Email: s1wells@blm.gov.

RIN: 1004-AE16

[FR Doc. 2016-29868 Filed 12-22-16; 8:45 am]

BILLING CODE 4334-63-P